DEPARTMENT OF DEFENSE

Office of the Secretary

[Transmittal No. 25-0M]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0M.

Dated: January 26, 2026.
Stephanie J. Bost,
Alternate OSD Federal Register Liaison Officer,Department of Defense.

BILLING CODE 6001-FR-P

BILLING CODE 6001-FR-C

Transmittal No. 25-0M

REPORT OF ENHANCEMENT OR UPGRADE OF SENSITIVITY OF TECHNOLOGY OR CAPABILITY (SEC. 36(B)(5)(C), AECA)

(i) Prospective Purchaser: Government of Iraq

(ii) Sec. 36(b)(1), AECA Transmittal No: 24-60

Date: September 24, 2024

Military Department: Navy

Funding Source: Foreign Military Financing

(iii) Description: On September 24, 2024, Congress was notified by congressional certification transmittal number 24-60 of the possible sale, under Section 36(b)(1) of the Arms Export Control Act, of the follow-on technical support (FOTS) for Iraq's vessel maintenance and repair (VMR) program, which may include ship repair; maintenance; sustainment; support services; repair; upgrades; overhaul services; associated labor and support; United States (U.S.) Government and contractor engineering, technical, and logistics support services of off-shore vessels, patrol boats and defenders of U.S. origin; fuel for quarterly trilateral exercises; and other related elements of logistics and program support. The estimated total cost was $65 million. There was no Major Defense Equipment (MDE) associated with this sale.

This transmittal notifies the addition of the following non-MDE items: continued follow-on technical support (FOTS) for Iraq's vessel maintenance and repair program, including off-shore vessels, patrol boats, and defenders; all shore ship repair, maintenance, sustainment, support services, repairs, upgrades, overhaul services, associated labor, and support for vessels of U.S. origin in the Iraq Navy fleet; and other related elements of logistics and program support. The estimated total cost of the new non-MDE items is $135 million. The estimated non-MDE and total case values will increase by $135 million to a revised $200 million. There is no MDE associated with this potential sale.

(iv) Significance: The proposed sale will improve Iraq's ability to meet current and future threats by enhancing the strength of its homeland defense.

(v) Justification: This proposed sale will support the foreign policy and national security of the U.S. by helping to improve the security of a strategic partner.

(vi) Date Report Delivered to Congress: October 3, 2025

* as defined in Section 47(6) of the Arms Export Control Act.

[FR Doc. 2026-01714 Filed 1-28-26; 8:45 am]

BILLING CODE 6001-FR-P